DEPARTMENT OF EDUCATION

Notice of Proposed Information Collection Requests; Comment Request

AGENCY: Department of Education.

ACTION: Correction Notice.

SUMMARY: On June 5, 2008, the Department of Education published a comment period notice in the Federal Register (Page 32004, Column 1) for the information collection, “National Assessment of Educational Progress 2008-2010 Operational and Pilot Surveys System Clearance—2009 Wave 1.”

The title is hereby corrected to “National Assessment of Educational Progress 2008-2010 Operational and Pilot Surveys System Clearance—2009 Wave 2.”

The IC Clearance Official, Regulatory Information Management Services, Office of Management, hereby issues a correction notice as required by the Paperwork Reduction Act of 1995.

Dated: June 6, 2008.
Angela C. Arrington,
IC Clearance Official, Regulatory Information Management Services, Office of Management.

[FR Doc. E8-13196 Filed 6-11-08; 8:45 am]

BILLING CODE 4000-01-P